DEPARTMENT OF ENERGY

Federal Energy Regulatory Commission

[Docket No. RP00-180-000]

Williston Basin Interstate Pipeline Company; Notice of Tariff Filing

February 18, 2000.

Take notice that on February 14, 2000, Williston Basin Interstate Pipeline company (Williston Basin), tendered for filing to become part of its FERC Gas Tariff, Second Revised Volume No. 1, the following revised tariff sheets to become effective March 16, 2000:

Eight Revised Sheet No. 2

First Revised Sheet No. 106A

First Revised Sheet No. 365

Third Revised Sheet No. 366

Third Revised Sheet No. 367

Third Revised Sheet No. 368

Williston Basin states that the revised tariff sheets are being filed to reflect the removal of Williston Basin's Rate Schedule IT-1 revenue crediting mechanism and the addition of tariff language to exclude the charge for storage fuel use, lost and unaccounted for gas on non-cycled storage gas.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-4454 Filed 2-24-00; 8:45 am]

BILLING CODE 6717-01-M